SMALL BUSINESS ADMINISTRATION

National Advisory Council Public Meeting

The U.S. Small Business Administration (SBA) National Advisory Council (NAC) will hold a public meeting on Tuesday, February 27, 2007 at 2 p.m. The meeting will take place using an audio/web conference system. To participate, please call our toll free conferencing service at 1-866-740-1260 and enter access code 3711001 at the prompt. The purpose of the meeting is to provide and discuss recent updates pertaining to the delivery of the Agency's programs and services. Information will be presented by the staff of the SBA, members of the council or interested others.

Anyone wishing to attend or to make a presentation must contact Mina Wales in writing, phone or e-mail in order to put on the agenda. Mina Wales, NAC Designated Federal Officer, SBA Headquarters, 409 3rd Street, SW., Washington, DC 20416, phone (202) 205-8414, e-mail: mina.wales@sba.gov. For more information about the National Advisory Council, see our Web site at http://www.sba.gov/nac/index.html.

Matthew Teague,
Committee Management Officer.

[FR Doc. E7-1258 Filed 1-25-07; 8:45 am]

BILLING CODE 8025-01-P